DEPARTMENT OF HOUSING AND URBAN DEVELOPMENT

[Docket No. FR-5480-N-68]

Notice of Submission of Proposed Information Collection to OMB Public Housing Admissions/Occupancy Policies

AGENCY: Office of the Chief Information Officer, HUD.

ACTION: Notice.

SUMMARY: The proposed information collection requirement described below has been submitted to the Office of Management and Budget (OMB) for review, as required by the Paperwork Reduction Act. The Department is soliciting public comments on the subject proposal.

Correction

The Statute requires HUD to ensure the low-income character of public housing projects and to assure that sound management practices will be followed in the operation of the project. Public Housing Agencies (PHAs) enter into an Annual Contribution Contract (ACC) with HUD to assist low-income tenants. HUD regulations, Part 960, provide policies and procedures for PHAs to administer the low-income housing program for admission and occupancy. Statutory and regulatory authority grants PHAs flexibility to structure admission and occupancy policies. PHAs must develop and keep on file the admission and continued occupancy policies and include this information in their Administrative Plan. PHA compliance will support the statute; and, HUD can ensure that the low-income character of the project and sound management practices will be followed.

DATES: Comments Due Date: September 16, 2011.

ADDRESSES: Interested persons are invited to submit comments regarding this proposal. Comments should refer to the proposal by name and/or OMB approval Number (2577-0220) and should be sent to: HUD Desk Officer, Office of Management and Budget, New Executive Office Building, Washington, DC 20503; e-mail OIRA-Submission@omb.eop.gov; fax: 202-395-5806.

FOR FURTHER INFORMATION CONTACT: Colette Pollard, Reports Management Officer, QDAM, Department of Housing and Urban Development, 451 Seventh Street, SW., Washington, DC 20410; e-mail Colette Pollard at Colette.Pollard@hud.gov; or telephone (202) 402-3400. This is not a toll-free number. Copies of available documents submitted to OMB may be obtained from Ms. Pollard.

SUPPLEMENTARY INFORMATION: This notice informs the public that the Department of Housing and Urban Development has submitted to OMB a request for approval of the Information collection described below. This notice is soliciting comments from members of the public and affecting agencies concerning the proposed collection of information to: (1) Evaluate whether the proposed collection of information is necessary for the proper performance of the functions of the agency, including whether the information will have practical utility; (2) Evaluate the accuracy of the agency's estimate of the burden of the proposed collection of information; (3) Enhance the quality, utility, and clarity of the information to be collected; and (4) Minimize the burden of the collection of information on those who are to respond; including through the use of appropriate automated collection techniques or other forms of information technology, e.g., permitting electronic submission of responses.

This notice also lists the following information:

Title of Proposal: Public Housing Admissions/Occupancy Policies.

OMB Approval Number: 2577-0220.

Form Numbers: None.

Description of the need for the information and its proposed use: The Statute requires HUD to ensure the low-income character of public housing projects and to assure that sound management practices will be followed in the operation of the project. Public Housing Agencies (PHAs) enter into an Annual Contribution Contract (ACC) with HUD to assist low-income tenants. HUD regulations, part 960, provide policies and procedures for PHAs to administer the low-income housing program for admission and occupancy. Statutory and regulatory authority grants PHAs flexibility to structure admission and occupancy policies. PHAs must develop and keep on file the admission and continued occupancy policies and include this information in their Administrative Plan. PHA compliance will support the statute; and, HUD can ensure that the low-income character of the project and sound management practices will be followed.

Frequency of Submission: On occasion.

| Number of respondents | Annual responses | × | Hours per response | = | Burden hours
Reporting Burden | 3,278 | 1 |  | 60 |  | 196,680

Total Estimated Burden Hours: 196,680.

Status: Extension without change of a currently approved collection.

Authority: Section 3507 of the Paperwork Reduction Act of 1995, 44 U.S.C. 35, as amended.

Dated: August 11, 2011.
Colette Pollard,
Departmental Reports Management Officer, Office of the Chief Managemen Officer.

[FR Doc. 2011-20880 Filed 8-16-11; 8:45 am]

BILLING CODE 4210-67-P